DEPARTMENT OF ENERGY

Federal Energy Regulatory Commission

[Docket No. CP00-373-000]

Tuscarora Gas Transmission Company; Notice of Site Visit

July 7, 2000.

On July 17 through July 19, 2000, the staff of the Office of Energy Projects will conduct a precertification site visit with the staff of the U.S. Department of Interior, Bureau of Land Management, Carson City Field Office (BLM), and corporate officials of the Tuscarora Gas Transmission Company (Tuscarora). The purpose of the site visit is to tour the project area of Tuscarora's proposed Hungry Valley Lateral Project in Washoe County, Nevada.

The BLM is the lead agency in the preparation of the environmental assessment for this proposal. The Commission is a cooperating agency and will be assisting the BLM in the preparation of the document, pursuant to the National Environmental Policy Act.

All parties may attend the site visit. Those planning to attend must provide their own transportation. For further information on attending the site visit, please call Mr. Paul McKee of the Commission's External Affairs Office at (202) 208-1088.

David P. Boergers,
Secretary.

[FR Doc. 00-17726 Filed 7-12-00; 8:45 am]

BILLING CODE 6717-01-M